DEPARTMENT OF ENERGY

[OE Docket No. EA-387]

Application to Export Electric Energy; Energia Renovable S.C., LLC

AGENCY: Office of Electricity Delivery and Energy Reliability, DOE.

ACTION: Notice of application.

SUMMARY: Energia Renovable S.C., LLC (Energia Renovable) has applied for authority to transmit electric energy from the United States to Mexico pursuant to section 202(e) of the Federal Power Act (FPA).

DATES: Comments, protests, or motions to intervene must be submitted on or before December 31, 2012.

ADDRESSES: Comments, protests, or motions to intervene should be addressed to: Christopher Lawrence, Office of Electricity Delivery and Energy Reliability, Mail Code: OE-20, U.S. Department of Energy, 1000 Independence Avenue SW., Washington, DC 20585. Because of delays in handling conventional mail, it is recommended that documents be transmitted by overnight mail, by electronic mail to Christopher.Lawrence@hq.doe.gov, or by facsimile to 202-586-8008.

FOR FURTHER INFORMATION CONTACT: Christopher Lawrence (Program Office) at 202-586-5260, or by email to Christopher.Lawrence@hq.doe.gov.

SUPPLEMENTARY INFORMATION: Exports of electricity from the United States to a foreign country are regulated by the Department of Energy (DOE) pursuant to sections 301(b) and 402(f) of the Department of Energy Organization Act (42 U.S.C. 7151(b), 7172(f)) and require authorization under section 202(e) of the FPA (16 U.S.C.824a(e)).

On September 11, 2012, DOE received an application from Energia Renovable for authority to transmit electric energy from the United States to Mexico for five years as a power marketer using existing international transmission facilities. Energia Renovable does not own any electric transmission facilities nor does it hold a franchised service area.

The electric energy that Energia Renovable proposes to export to Mexico would be surplus energy purchased from electric utilities, Federal power marketing agencies, and other entities within the United States. The existing international transmission facilities to be utilized by Energia Renovable have previously been authorized by Presidential permits issued pursuant to Executive Order 10485, as amended, and are appropriate for open access transmission by third parties. In its application, Energia Renovable requested expedited application treatment due to an scheduled imminent transaction. DOE hereby grants this request by shortening the comment period to 15 days.

Procedural Matters: Any person desiring to be heard in this proceeding should file a comment or protest to the application at the address provided above. Protests should be filed in accordance with Rule 211 of the Federal Energy Regulatory Commission's (FERC) Rules of Practice and Procedures (18 CFR 385.211). Any person desiring to become a party to these proceedings should file a motion to intervene at the above address in accordance with FERC Rule 214 (385.214). Five copies of such comments, protests, or motions to intervene should be sent to the address provided above on or before the date listed above.

Comments on the Energia Renovable application to export electric energy to Mexico should be clearly marked with OE Docket No. 387. An additional copy is to be filed directly with Jorge Gutierrez, Reforma 905, Lomas de Chapultepec, Delegacioön Miguel Hidalgo, Mexico, D.F. Mexico 11000, and Federico Santacruz Gonzalez, Ritch Mueller, S.C. Blvd. M. Avila Camacho No. 24, piso 20, Lomas de Chapultepec, Mexico, D.F. Mexico 11000.

A final decision will be made on this application after the environmental impacts have been evaluated pursuant to DOE's National Environmental Policy Act Implementing Procedures (10 CFR part 1021) and after a determination is made by DOE that the proposed action will not have an adverse impact on the reliability of the U.S. electric power supply system.

Copies of this application will be made available, upon request, for public inspection and copying at the address provided above, by accessing the program Web site at http://energy.gov/node/11845 or by emailing Angela Troy at Angela.Troy@hq.doe.gov.

Issued in Washington, DC, on December 7, 2012.
Jon Worthington,
Deputy Assistant Secretary, Office of Electricity Delivery and Energy Reliability.

[FR Doc. 2012-30188 Filed 12-13-12; 8:45 am]

BILLING CODE 6450-01-P